DEPARTMENT OF AGRICULTURE

Foreign Agricultural Service

Meeting of the Advisory Committee on Emerging Markets

AGENCY: Foreign Agricultural Service, USDA.

ACTION: Notice of meeting.

SUMMARY: Pursuant to the provisions of section 10(a)(2) of the Federal Advisory Committee Act (Pub. L. 92-463), notice is hereby given that the next meeting of the Advisory Committee on Emerging Markets will be held on September 10-11, 2008. The role of the committee is to provide information and advice, based upon knowledge and expertise of the members, useful to the U.S. Department of Agriculture (USDA) in implementing the Emerging Markets Program. The committee also advises USDA on the involvement of the U.S. private sector in cooperative work with emerging markets in food and rural business systems, and reviews proposals submitted to the Program.

DATES: The meeting will convene on September 10, 2008, from 9:30 a.m. to 5:30 p.m., and on September 11, 2008, from 9:30 a.m. to 1:30 p.m.

ADDRESSES: The meeting will be held on the 4th Floor, Room 411 Portals Building, 1250 Maryland Avenue, SW., Washington, DC 20024. Please submit comments by e-mail to Nancy.Hirschhorn@fas.usda.gov or by fax to (202) 690-0193. Persons with disabilities who require an alternative means of communication of information (Braille, large print, audiotape, etc.) should contact USDA's Target Center at (202) 720-2600 (voice and TDD).

FOR FURTHER INFORMATION CONTACT: Nancy Hirschhorn by e-mail at emo@fas.usda.gov or by telephone (202) 720-6896.

SUPPLEMENTARY INFORMATION: The purpose of this meeting is to review and discuss those proposals submitted for participation in the fiscal year 2009 Emerging Markets Program, which qualify for finding from the program. The meeting is open to the public and members of the public may provide comments, but they should not make any oral comments at the meeting unless invited to do so by the co-chairpersons. The proposals will be posted on the Federal Advisory Committees Database at http://fido.gov/facadatabase/public.asp.

Dated: August 21, 2008.
Michael W. Yost,
Administrator, Foreign Agricultural Service.

[FR Doc. E8-20134 Filed 9-2-08; 8:45 am]

BILLING CODE 3410-10-M